DEPARTMENT OF TRANSPORTATION

Pipeline and Hazardous Materials Safety Administration

[Docket No. PHMSA-2017-0110]

Pipeline Safety: Information Collection Activities, Revision to Gas Distribution Annual Report

AGENCY: Pipeline and Hazardous Materials Safety Administration (PHMSA), DOT.

ACTION: Notice and request for comments.

SUMMARY: PHMSA is preparing to request Office of Management and Budget (OMB) approval for the revision of the gas distribution annual report currently approved under OMB control number 2137-0629. PHMSA proposes revising Part A and certain parts of the instructions. In accordance with the Paperwork Reduction Act of 1995, PHMSA invites comments on the proposed revisions to the form and instructions.

DATES: Interested persons are invited to submit comments on or before December 18, 2017.

ADDRESSES: Comments may be submitted in the following ways:

E-Gov Web site: http://www.regulations.gov. This site allows the public to enter comments on any Federal Register notice issued by any agency.

Fax: 1-202-493-2251.

Mail: Docket Management Facility, U.S. Department of Transportation (DOT), 1200 New Jersey Avenue SE., West Building, Room W12-140, Washington, DC 20590-0001.

Hand Delivery: Room W12-140 on the ground level of DOT, West Building, 1200 New Jersey Avenue SE., Washington, DC, between 9:00 a.m. and 5:00 p.m., Monday through Friday, except Federal holidays.

Instructions: Identify the docket number, PHMSA-2017-0110, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19476) or visit http://www.regulations.gov before submitting any such comments.

Docket: For access to the docket or to read background documents or comments, go to http://www.regulations.gov at any time or to Room W12-140 on the ground level of DOT, West Building, 1200 New Jersey Avenue SE., Washington, DC, between 9:00 a.m. and 5:00 p.m., Monday through Friday, except Federal holidays. If you wish to receive confirmation of receipt of your written comments, please include a self-addressed, stamped postcard with the following statement: Comments on: PHMSA-2017-0110.” The docket clerk will date stamp the postcard prior to returning it to you via the U.S. mail. Please note that due to delays in the delivery of U.S. mail to Federal offices in Washington, DC, we recommend that persons consider an alternative method (internet, fax, or professional delivery service) of submitting comments to the docket and ensuring their timely receipt at DOT.

FOR FURTHER INFORMATION CONTACT: Angela Dow by telephone at 202-366-1246, by fax at 202-366-4566, or by mail at DOT, PHMSA, 1200 New Jersey Avenue SE., PHP-30, Washington, DC 20590-0001.

SUPPLEMENTARY INFORMATION:

A. Background

Section 1320.8(d), Title 5, Code of Federal Regulations, requires PHMSA to provide interested members of the public and affected agencies an opportunity to comment on information collection and recordkeeping requests. This notice identifies an information collection request for the gas distribution annual report that PHMSA will be submitting to OMB for approval.

B. Gas Distribution Annual Report

PHMSA intends to revise the gas distribution annual report (PHMSA F 7100.1-1) and its instructions. PHMSA specifically proposes removing “Other” as a selection for Operator Type in Part A7 and adding guidance for the proper selection to the instructions. By eliminating “Other” as a selection, PHMSA would obtain more accurate data about the types of gas distribution operators.

PHMSA proposes changing the instructions for PHMSA Form 7100.1-1, Gas Distribution System Annual Report, related to calculating the percent of lost and unaccounted for (LAUF) gas and negative percent values. PHMSA proposes calculating percent LAUF gas by dividing the LAUF volume by the gas consumption volume. PHMSA also proposes allowing a negative value to be reported for percent LAUF gas. These changes would harmonize the PHMSA and Energy Information Administration methodologies for calculating percent LAUF gas.

C. Summary of Impacted Collections

The following information is provided below for the impacted information collection: (1) Title of the information collection; (2) OMB control number; (3) Current expiration date; (4) Type of request; (5) Abstract of the information collection activity; (6) Description of affected public; (7) Estimate of total annual reporting and recordkeeping burden; and (8) Frequency of collection.

PHMSA requests comments on the following information collection:

1. Title: Annual Report for Gas Distribution Pipeline Operators.

OMB Control Number: 2137-0629.

Current Expiration Date: 1/31/2018.

Type of Request: Revision.

Abstract: PHMSA intends to revise the form and instructions for the gas distribution annual report (PHMSA F 7100.1-1).

Affected Public: Gas distribution pipeline operators.

Annual Reporting and Recordkeeping Burden:

Total Annual Responses: 1,446.

Total Annual Burden Hours: 24,582.

Frequency of Collection: Annually.

Comments are invited on:

(a) The need for the proposed collection of information, including whether the information will have practical utility in helping the agency to achieve its pipeline safety goals;

(b) The accuracy of the agency's estimate of the burden of the proposed collection of information;

(c) Ways to enhance the quality, utility, and clarity of the information to be collected; and

(d) Ways to minimize the burden of the collection of information on those who are to respond, including the use of appropriate automated, electronic, mechanical, or other technological collection techniques.

Issued in Washington, DC, on October 11, 2017, under authority delegated in 49 CFR 1.97.
Alan K. Mayberry,
Associate Administrator for Pipeline Safety.

[FR Doc. 2017-22552 Filed 10-17-17; 8:45 am]

BILLING CODE 4910-60-P